DEPARTMENT OF TRANSPORTATION

Federal Motor Carrier Safety Administration

[Docket No. FMCSA-2011-0279]

Agency Information Collection Activities; Approval of a New Information Collection: Motorcoach Passenger Survey: Motorcoach Safety and Pre-Trip Safety Awareness and Emergency Preparedness Information

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval, and invites public comment. An initial emergency request and 30-day notice was first published on October 18, 2011 for this ICR. The purpose of this information collection is to assess the current levels of voluntary compliance by motorcoach operators to provide pre-trip safety awareness and emergency preparedness information to passengers and to obtain passenger opinions of the implementation of the pre-trip program and any recommended improvements.

This information, along with its conclusions, will be used to inform future initiatives, policies, and rules as appropriate; will be presented to the National Transportation Safety Board (NTSB) and Congress; and will contribute to the general literature regarding practices for improving motorcoach safety in the United States.

DATES: We must receive your comments on or before July 15, 2013.

ADDRESSES: You may submit comments identified by Federal Docket Management System Number FMCSA 2011-0297 using one of the following methods:

• Federal eRulemaking Portal: http://www.regulations.gov. Follow the online instructions for submitting comments.

• Fax: 1-202-493-2251

• Mail: Docket Management Facility; U.S. Department of Transportation, 1200 New Jersey Avenue SE., West Building, Ground Floor, Room W12-140, 20590-0001.

• Hand Delivery or Courier: West Building, Ground Floor, Room W12-140, 1200 New Jersey Avenue SE., Washington, DC between 9 a.m. and 5 p.m., e.t., Monday through Friday, except Federal holidays.

• Instructions: All submissions must include the Agency name and docket number. For detailed instructions on submitting comments and additional information on the exemption process, see the Public Participation heading below. Note that all comments received will be posted without change to http://www.regulations.gov, including any personal information provided. Please see the Privacy Act heading below.

• Docket: For access to the docket to read background documents or comments received, go to http://www.regulations.gov, and follow the online instructions for accessing the dockets, or go to the street address listed above.

• Privacy Act: Anyone is able to search the electronic form of all comments received into any of our dockets by the name of the individual submitting the comment (or signing the comment, if submitted on behalf of an association, business, labor union, etc.). You may review the Department of Transportation's (DOT) complete Privacy Act Statement for the Federal Docket Management System published in the Federal Register on January 17, 2008 (73 FR 3316), or you may visit http://edocket.access.gpo.gov/2008/pdfE8-794.pdf.

• Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Dee Williams, Strategic Planning and Program Evaluation Division Chief, Office of Policy, Strategic Planning & Regulations, (202) 493-0192, dee.williams@dot.gov, MC-PRS, Federal Motor Carrier Safety Administration, 6th Floor, West Building, 1200 New Jersey Ave. SE., Washington, DC 20590.

SUPPLEMENTARY INFORMATION:

Background

Due to several recent fatal motorcoach crashes, the Congress, the Department of Transportation (DOT), specifically the Federal Motor Carrier Safety Administration (FMCSA), and other Federal oversight agencies, including NTSB, have increased their scrutiny over the motorcoach industry and the enforcement and compliance of the Federal Motor Carrier Safety Regulations (FMCSRs). On February 26, 1999, NTSB issued safety recommendation H-99-8 to DOT, requiring motorcoach operators to provide passengers with pre-trip safety awareness information. This recommendation resulted from NTSB's investigation of two motorcoach crashes from the late 1990s which revealed that passengers felt a general sense of panic not knowing what to do on a motorcoach in the case of an emergency. The intent of the recommendation is to empower passengers to take their personal safety into their own hands in the event of an imminent hazardous or emergency situation. The FMCSA decided to implement the recommendation through voluntary adoption and compliance of pre-trip safety briefings in the motorcoach industry.

The goals and objectives of this survey are to assess the current levels of voluntary compliance by motorcoach operators and to obtain passenger opinions of the implementation of the pre-trip safety awareness and emergency preparedness information. The Form MCSA-5868 will be used to survey motorcoach passengers. This information, along with its conclusions, will be used to inform future initiatives, policies, and rules as appropriate; will be presented to NTSB and Congress; and will contribute to the general literature regarding practices for improving motorcoach safety in the United States.

Title: Motorcoach Passenger Survey: Motorcoach Safety and Pre-Trip Safety Awareness and Emergency Preparedness Information.

OMB Control Number: 2126-XXXX.

Type of Request: New information collection.

Respondents: Motorcoach passenger-trips.

Estimated Number of Respondents: 2,000 motorcoach passenger-trips.

Estimated Time per Response: 10 minutes.

Form Numbers: Form MCSA-5868, Motorcoach Passenger Survey: Pre-Trip Safety Awareness and Emergency Preparedness Information—To collect motorcoach passengers' responses during five, one-shot in-person survey events.

Expiration Date: N/A. This is a new information collection.

Frequency of Response: One-time.

Estimated Total Burden: 333 hours [2,000 respondents × 10 minutes/60 minutes = 333 hours].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

Issued On: May 3, 2013.
G. Kelly Leone,
Associate Administrator, Office of Research and Information Technology and Chief Information Officer.

[FR Doc. 2013-11528 Filed 5-14-13; 8:45 am]

BILLING CODE 4910-EX-P